DEPARTMENT OF THE INTERIOR

Bureau of Land Management

[WO-320-08-1310-DT-OSHL]

Notice of Reopening of the Public Comment Period for the Draft Oil Shale and Tar Sands Resource Management Plan Amendments To Address Land Use Allocations in Colorado, Utah, and Wyoming and Programmatic Environmental Impact Statement

AGENCY: Bureau of Land Management, Interior.

ACTION: Notice of reopening of public comment period.

SUMMARY: The Bureau of Land Management (BLM) announces the reopening of the public comment period for the, “Draft Oil Shale and Tar Sands Resource Management Plan Amendments to Address Land Use Allocations in Colorado, Utah, and Wyoming and Programmatic Environmental Impact Statement.” This draft national programmatic EIS addresses lands that may eventually be available for oil shale and tar sands leasing on public lands administered by BLM in Colorado, Utah and Wyoming.

DATES: The original notice issued December 21, 2007, provided for a comment period to end on March 20, 2008. BLM is reopening the comment period until April 21, 2008.

ADDRESSES: Written comments should be sent to: BLM Oil Shale and Tar Sands Resources Leasing Draft Programmatic EIS Comments, 9700 South Cass Avenue, Argonne, IL 60439. Comments may also be sent by e-mail to http://osteis.anl.gov.

FOR FURTHER INFORMATION CONTACT: Sherri Thompson, Project Manager, Bureau of Land Management, at (303) 239-3758, (sherri_thompson@blm.gov), Bureau of Land Management, 2850 Youngfield Street, Lakewood, Colorado 80215, or Mitchell Leverette, BLM Division Chief, Solid Minerals, at (202) 452-0351, (mitchell_leverette@blm.gov), Bureau of Land Management, 1620 L Street, NW., Washington, DC 20036.

SUPPLEMENTARY INFORMATION: The original Notice of Availability, issued on December 21, 2007, provided for comments on the Draft EIS to be received through March 20, 2008. Several individuals and groups requested an extension of the comment period. BLM has decided to reopen the comment period, therefore, comments on the Draft PEIS will now be accepted through April 21, 2008.

Dated: March 25, 2008.
Robert M. Anderson,
Deputy Assistant Director, Minerals and Realty Management.

[FR Doc. E8-6645 Filed 3-31-08; 8:45 am]

BILLING CODE 4310-84-P